ENVIRONMENTAL PROTECTION AGENCY

[FRL-9906-31-Region-2]

Proposed CERCLA Settlements Relating to the Sherwin-Williams Site in Gibbsboro, Camden County, New Jersey

AGENCY: Environmental Protection Agency.

ACTION: Notice of proposed administrative settlement and opportunity for public comment.

SUMMARY: In accordance with Section 122(i) of the Comprehensive Environmental Response, Compensation, and Liability Act of 1980, as amended (“CERCLA”), notice is hereby given by the U.S. Environmental Protection Agency (“EPA”), Region 2, of a proposed Administrative Settlement Agreement for Recovery of Past Response Costs (“Agreement”) pursuant to Section 122(h)(1) of CERCLA with the Sherwin-Williams Company (“Settling Party”). The Settling Party is a potentially responsible party, pursuant to Section 107(a) of CERCLA, and thus is potentially liable for response costs incurred at or in connection with the Sherwin-Williams Site (“Site”), located in Gibbsboro, Camden County, New Jersey. Under the Agreement, the Settling Party agrees to pay a total of $104,000.00 to EPA for past response costs. EPA will consider all comments received and may modify or withdraw its consent to the Agreement if comments received disclose facts or considerations that indicate that the proposed Agreement is inappropriate, improper, or inadequate. EPA's response to any comments received will be available for public inspection at EPA Region 2 offices, 290 Broadway, New York, New York 10007-1866.

DATES: Comments must be provided by March 10, 2014.

ADDRESSES: The Agreement is available for public inspection at EPA Region 2 offices at 290 Broadway, New York, New York 10007-1866. Comments should reference the Sherwin-Williams Site, located in Gibbsboro, Camden County, New Jersey, Index Nos. CERCLA-02-2014-2002. To request a copy of the Agreements, please contact the EPA employee identified below.

FOR FURTHER INFORMATION CONTACT: Carl Howard, Assistant Regional Counsel, New Jersey Superfund Branch, Office of Regional Counsel, U.S. Environmental Protection Agency, 290 Broadway—17th Floor, New York, New York 10007-1866. Telephone: 212-637-3216, email at howard.carl@epa.gov.

Dated: January 15, 2014.
Walter E. Mugdan,
Director, Emergency and Remedial Response Division.

[FR Doc. 2014-02608 Filed 2-5-14; 8:45 am]

BILLING CODE 6560-50-P